DEPARTMENT OF TRANSPORTATION

Federal Aviation Administration

14 CFR Part 39

[Docket No. FAA-2007-0290; Directorate Identifier 2007-NM-250-AD]

RIN 2120-AA64

Airworthiness Directives; Sandel Avionics Incorporated Model ST3400 Terrain Awareness Warning System/Radio Magnetic Indicator (TAWS/RMI) Units Approved Under Technical Standard Order(s) C113, C151a, or C151b; Installed on Various Small and Transport Category Airplanes

AGENCY: Federal Aviation Administration (FAA), Department of Transportation (DOT).

ACTION: Notice of proposed rulemaking (NPRM).

SUMMARY: The FAA proposes to revise an existing airworthiness directive (AD) that applies to Sandel Avionics Incorporated Model ST3400 TAWS/RMI units as described above. The existing AD currently requires installing a warning placard on the TAWS/RMI and revising the Limitations section of the airplane flight manual (AFM). The existing AD also requires installing upgraded software in the TAWS/RMI. This proposed AD would allow installing later revisions of the software described in the existing AD. This proposed AD results from a report that an in-flight bearing error occurred in a Model ST3400 TAWS/RMI configured to receive bearing information from a very high frequency omnidirectional range (VOR) receiver interface via a composite video signal, due to a combination of input signal fault and software error. We are proposing this AD to prevent a bearing error, which could lead to an airplane departing from its scheduled flight path, which could result in a reduction in separation from, and a possible collision with, other aircraft or terrain.

DATES: We must receive comments on this proposed AD by April 28, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Sandel Avionics Incorporated (Sandel), 2401 Dogwood Way, Vista, California 92081.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Ha A. Nguyen, Aerospace Engineer, Systems and Equipment Branch, ANM-130L, FAA, Los Angeles Aircraft Certification Office, 3960 Paramount Boulevard, Lakewood, California 90712-4137; telephone (562) 627-5335; fax (562) 627-5210.

SUPPLEMENTARY INFORMATION:

Comments Invited

We invite you to send any written relevant data, views, or arguments about this proposed AD. Send your comments to the address listed under the ADDRESSES section. Include “Docket No. FAA-2007-0290; Directorate Identifier 2007-NM-250-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On August 3, 2006, we issued AD 2006-16-18, amendment 39-14718 (71 FR 48461, August 21, 2006), for Sandel Avionics Incorporated Model ST3400 terrain awareness warning system/radio magnetic indicator (TAWS/RMI) units approved under Technical Standard Order(s) C113, C151a, or C151b; installed on various small and transport category airplanes. That AD requires installing a warning placard on the TAWS/RMI and revising the Limitations section of the airplane flight manual (AFM). That AD also requires installing upgraded software in the TAWS/RMI. That AD resulted from a report that an in-flight bearing error occurred in a Model ST3400 TAWS/RMI configured to receive bearing information from a very high frequency omnidirectional range (VOR) receiver interface via a composite video signal, due to a combination of input signal fault and software error. We issued that AD to prevent a bearing error, which could lead to an airplane departing from its scheduled flight path, which could result in a reduction in separation from, and a possible collision with, other aircraft or terrain.

Actions Since Existing AD Was Issued

Since we issued AD 2006-16-18, we have determined that later revisions of the software described in Sandel ST3400 Service Bulletin SB3400-01, Revision B, dated September 15, 2004, which is specified as the appropriate source of service information for accomplishing the requirements of the existing AD, are acceptable for installation in the TAWS/RMI without needing our further approval.

FAA's Determination and Requirements of the Proposed AD

We have evaluated all pertinent information and identified an unsafe condition that is likely to exist or develop on other products of this same type design. For this reason, we are proposing this AD, which would revise AD 2006-16-18 to permit installing later revisions of the software described in the existing service information, and would retain the requirements of the existing AD.

Costs of Compliance

This proposed AD describes the installation of later revisions of software than those specified in AD 2006-16-18; however, this change imposes no new costs on operators. Costs are repeated here for operator convenience only.

This proposed AD would affect about 300 airplanes of U.S. registry. The proposed actions would take about 1 work hour per airplane, at an average labor rate of $80 per work hour. Based on these figures, the estimated cost of the proposed AD for U.S. operators is $24,000, or $80 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and place it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14718 (71 FR 48461, August 21, 2006) and adding the following new airworthiness directive (AD):

2006-16-18 R1 Sandel Avionics Incorporated: Docket No. FAA-2007-0290; Directorate Identifier 2007-NM-250-AD.

Comments Due Date

(a) The FAA must receive comments on this AD action by April 28, 2008.

Affected ADs

(b) This AD revises AD 2006-16-18.

Applicability

(c) This AD applies to Sandel Avionics Incorporated (Sandel) Model ST3400 terrain awareness warning system/radio magnetic indicator (TAWS/RMI) units approved under Technical Standard Order(s) C113, C151a, or C151b; as identified in Sandel ST3400 Service Bulletin SB3400-01, Revision B, dated September 15, 2004; as installed on various small and transport category airplanes, certificated in any category, including, but not limited, to the airplane models listed in Table 1 of this AD.

Table 1.—Manufacturers/Airplane Models
Manufacturer | Airplane model(s)
Airbus | A300
Avions Marcel Dassault—Breguet Aviation (AMD/BA) | Falcon 10.
Boeing | 727, 737, 747.
Bombardier (LearJet) | 24, 35, 36, 55.
British Aerospace (Operations) Limited | Jetstream Series 3101.
Cessna | 208, 208B, 421C; 501, 525, 550, 560, 650, S550.
Embraer | EMB-120.
Dassault-Aviation | Mystere-Falcon 50, Mystere-Falcon 200.
Gulfstream | G-I, G-1159A (G-III).
Israel Aircraft Industries (IAI) | 1124, 1125 Westwind Astra.
McDonnell Douglas | DC-10.
Piper | PA-31T2.
Raytheon | 58; 1900D, 400; A36; BAe.125 Series 800A; HS.125 Series 600A/700A; Hawker 800-XP; 200, 300, 350; A200, B100, B200, B300, C90, C90A, C90B, E90, F90; MU-300-10.
Sabreliner | 60 (NA-265-60).
Twin Commander | 500-A, 695A.
Viking Air Limited | DHC-6.

Unsafe Condition

(d) This AD results from a report that an in-flight bearing error occurred in a Model ST3400 TAWS/RMI unit configured to receive bearing information from a very high frequency omnidirectional range (VOR) receiver interface via a composite video signal, due to a combination of input signal fault and software error. We are issuing this AD to prevent a bearing error, which could lead to an airplane departing from its scheduled flight path, which could result in a reduction in separation from, and a possible collision with, other aircraft or terrain.

Compliance

(e) You are responsible for having the actions required by this AD performed within the compliance times specified, unless the actions have already been done.

Installing Placard

(f) Within 14 days after September 25, 2006 (the effective date of AD 2006-16-18): Install a placard on the TAWS/RMI which states, “NOT FOR PRIMARY VOR NAVIGATION,” in accordance with Sandel ST3400 Service Bulletin SB3400-01, Revision B, dated September 15, 2004.

Revising Airplane Flight Manual (AFM)

(g) Within 14 days after September 25, 2006: Revise the Limitations section of the applicable AFM to include the following statement: “Use of ST3400 TAWS/RMI for primary VOR navigation is prohibited unless the indicator has 3.07 or A3.06 software or later.” This may be done by inserting a copy of this AD into the AFM.

Updating Software

(h) Within 90 days after September 25, 2006, in accordance with Sandel ST3400 Service Bulletin SB3400-01, Revision B, dated September 15, 2004: Field-load the TAWS/RMI with updated software having revision 3.07 (for units having serial numbers (S/Ns) under 2000) or revision A3.06 (for units having S/Ns 2000 and subsequent). Revisions of software later than revision 3.07 or A3.06, as applicable, are considered acceptable for compliance with the requirements of this paragraph. The placard and AFM limitations revision installed as required by paragraphs (f) and (g) of this AD may be removed after the software upgrade required by paragraph (h) of this AD has been accomplished.

Parts Installation

(i) As of 90 days after September 25, 2006, no person may install, on any airplane, a Model ST3400 TAWS/RMI unit, unless it has been modified in accordance with Sandel ST3400 Service Bulletin SB3400-01, Revision B, dated September 15, 2004.

Alternative Methods of Compliance (AMOCs)

(j)(1) The Manager, Los Angeles Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on March 3, 2008.
Ali Bahrami,
Manager, Transport Airplane Directorate, Aircraft Certification Service.

[FR Doc. E8-5001 Filed 3-12-08; 8:45 am]

BILLING CODE 4910-13-P